DEPARTMENT OF COMMERCE

National Oceanic and Atmospheric Administration

RIN 0648-XR39

Endangered and Threatened Species; Recovery Plans

AGENCY: National Marine Fisheries Service (NMFS), National Oceanic and Atmospheric Administration (NOAA), Commerce.

ACTION: Notice of availability.

SUMMARY: NMFS announces the adoption of a Final Endangered Species Act (ESA) recovery plan for the endangered Sacramento River winter-run Chinook salmon Evolutionarily Significant Unit (ESU) (herein referred to as winter-run Chinook salmon), the threatened Central Valley spring-run Chinook salmon ESU (herein referred to as spring-run Chinook salmon), and the threatened California Central Valley steelhead Distinct Population Segment (DPS) (herein referred to as steelhead). The Final Recovery Plan for these species (Final Recovery Plan) is now available.

ADDRESSES: Electronic copies of the Final Recovery Plan are available online at: http://www.nmfs.noaa.gov/pr/recovery/plans.htm http://swr.nmfs.noaa.gov/recovery/index.htm

A CD ROM of the Final Recovery Plan can be obtained by emailing a request to Aimee.Moore@noaa.gov with the subject line “CD ROM Request for CV Chinook Salmon and Steelhead Recovery Plan”, by phone at (916) 930-3600, or by writing to NMFS Protected Resources Division, 650 Capitol Mall, Suite 5-100, Sacramento, CA, 95814 ATTN: Recovery Coordinator

FOR FURTHER INFORMATION CONTACT: Brian Ellrott, Central Valley Recovery Coordinator by email to Brian.Ellrott@noaa.gov or by phone at (916) 930-3612.

SUPPLEMENTARY INFORMATION:

Background

The Endangered Species Act of 1973 (ESA), as amended (16 U.S.C. 1531 et seq.) requires that we develop and implement recovery plans for the conservation and survival of threatened and endangered species under our jurisdiction, unless it is determined that such plans would not result in the conservation of the species. The Sacramento River winter-run Chinook salmon (Oncorhynchus tshawytscha) ESU, currently listed as endangered, was listed as a threatened species under emergency provisions of the ESA in August 1989 (54 FR 32085) and formally listed as a threatened species in November 1990 (55 FR 46515). Winter-run Chinook salmon were re-classified as an endangered species on January 4, 1994 (59 FR 440). NMFS listed spring-run Chinook salmon as threatened (64 FR 50394) on September 16, 1999. Steelhead were listed as threatened on March 19, 1998 (63 FR 13347).

We published a Notice of Availability of the Draft Recovery Plan in the Federal Register on October 7, 2009 (71 FR 51553) and held eight public meetings to obtain comments on the Draft Plan. In response to multiple requests, we extended the public comment period for an additional 60 days on November 24, 2009 (74 FR 61329). We received extensive comments on the Draft Plan, summarized the comments and identified the comments that prompted revisions for the Final Recovery Plan. We revised the Draft Plan based on the comments received, and this final version now constitutes the Recovery Plan for the Sacramento River winter-run Chinook salmon ESU, the Central Valley spring-run Chinook salmon ESU, and the California Central Valley steelhead DPS.

The Final Plan

The ESA requires that recovery plans incorporate, to the extent practicable: (1) Objective, measurable criteria which, when met, would result in a determination that the species is no longer threatened or endangered; (2) site-specific management actions necessary to achieve the plan's goals; and (3) estimates of the time required and costs to implement recovery actions. Our goal is to restore winter-run Chinook salmon, spring-run Chinook salmon, and steelhead to the point where they are viable and no longer need the protections of the ESA.

The Final Recovery Plan provides background on the natural history of salmon and steelhead in the Central Valley, population viability trends for winter-run Chinook salmon, spring-run Chinook salmon, and steelhead, and the potential threats to these species. The Final Recovery Plan lays out a recovery strategy to address the potential threats based on the best available science and includes goals that incorporate objective, measurable criteria which, when met, would result in a determination that the species be removed from the list. The Final Recovery Plan is not regulatory, but presents guidance for use by agencies and interested parties to assist in the recovery of winter-run Chinook salmon, spring-run Chinook salmon, and steelhead. The Final Recovery Plan identifies substantive actions needed to achieve recovery by addressing the threats to the species. The strategy for recovery includes a linkage between management actions and an active research and monitoring program intended to fill data gaps and assess effectiveness. The Final Recovery Plan incorporates an adaptive management framework by which management actions and other elements will evolve and adapt as we gain information through research and monitoring. The Final Recovery Plan references many of the significant efforts already underway to allow Chinook salmon and steelhead in the Central Valley to access a diversity of high quality habitats that have been lost or degraded due to human land use.

We expect the Final Recovery Plan to help us and other Federal agencies take a consistent approach to section 7 consultations under the ESA and to other ESA decisions. For example, the Final Recovery Plan will provide information on the biological context for the effects that a proposed action may have on the listed ESU. The best available information in the Final Recovery Plan on the natural history, threats, actions, and priorities for recovery can be used to help assess risks. Consistent with the adoption of this Final Recovery Plan for winter-run Chinook salmon, spring-run Chinook salmon, and steelhead, we will implement relevant actions for which we have authority, work cooperatively on implementation of other actions, and encourage other Federal and state agencies to implement recovery actions for which they have responsibility and authority.

Recovery of winter-run Chinook salmon, spring-run Chinook salmon, and steelhead will require a long-term effort throughout the Central Valley and surrounding watersheds in cooperation and coordination with Federal, state, tribal and local government agencies, and the community.

Conclusion

NMFS has reviewed the Plan for compliance with the requirements of the ESA section 4(f), determined that it does incorporate the required elements and is therefore adopting it as the Final Recovery Plan for the Sacramento River winter-run Chinook salmon ESU, the Central Valley spring-run Chinook salmon ESU, and the Central Valley steelhead DPS.

Authority: 16 U.S.C. 1531 et seq.

Dated: July 11, 2014.
Angela Somma,
Chief, Endangered Species Division, Office of Protected Resources, National Marine Fisheries Service.

[FR Doc. 2014-17177 Filed 7-21-14; 8:45 am]

BILLING CODE 3510-22-P